DEPARTMENT OF TRANSPORTATION

Federal Aviation Administration

14 CFR Part 39

[Docket No. 2003-NE-56-AD; Amendment 39-13525, AD 2004-05-30]

RIN 2120-AA64

Airworthiness Directives; Rolls-Royce plc RB211 Trent 500 Series Turbofan Engines; Correction

AGENCY: Federal Aviation Administration, DOT.

ACTION: Final rule; correction.

SUMMARY: This document makes a correction to Airworthiness Directive (AD) 2004-05-30 applicable to Rolls-Royce plc (RR) RB211 Trent 500 series turbofan engines that was published in the Federal Register on March 18, 2004 (69 FR 12783). The engine model designation in the Applicability and Unsafe Condition paragraphs is incorrect. This document corrects that model designation. In all other respects, the original document remains the same.

EFFECTIVE DATE: Effective April 1, 2004.

FOR FURTHER INFORMATION CONTACT: Christopher Spinney, Aerospace Engineer, Engine Certification Office, FAA, Engine and Propeller Directorate, 12 New England Executive Park, Burlington, MA 01803-5299; telephone (781) 238-7175, fax (781) 238-7199.

SUPPLEMENTARY INFORMATION: A final rule AD, FR Doc. 04-5620 applicable to RR RB211 Trent 500 series turbofan engines, was published in the Federal Register on March 18, 2004 (69 FR 12783). The following corrections are needed:

§ 39.13 [Corrected]

On page 12785, in the second column, in the Amended Section, in the Applicability paragraph (c), in the second line, “Trent 500 series turbofan engines.” is corrected to read “RB211 Trent 500 series turbofan engines.”

Also, on page 12785, in the third column, in the Amended Section, in the Unsafe Condition paragraph (d), in the third line, “Trent 500” is corrected to read “RB211 Trent 500''.

Issued in Burlington, MA, on March 24, 2004.
Francis A. Favara,
Acting Manager, Engine and Propeller Directorate, Aircraft Certification Service.

[FR Doc. 04-7234 Filed 3-31-04; 8:45 am]

BILLING CODE 4910-13-P